NATIONAL ARCHIVES AND RECORDS ADMINISTRATION

National Historical Publications and Records Commission; Programs Subject to Title IX

AGENCY: National Archives and Records Administration (NARA).

ACTION: Notice of NHPRC programs covered by 36 CFR Part 1211 (Title IX).

SUMMARY: This notice describes the types of financial assistance that are provided by National Historical Publications and Records Commission (NHPRC) that are covered by Title IX of the Education Amendments of 1972, as amended (“Title IX”). Title IX prohibits recipients of federal financial assistance from discriminating on the basis of sex in education programs or activities.

FOR FURTHER INFORMATION CONTACT: NHPRC, Nancy Copp, at 202-501-5603, email address, nancy.copp@arch1.nara.gov., fax number 202-501-5601.

SUPPLEMENTARY INFORMATION: The NHPRC provides grants for projects that focus on documentary publications, records projects and other educational programs. The emphasis is placed primarily on the dissemination, accessibility and preservation of historical records bearing on U.S. history and also to further an understanding and appreciation of U.S. history. The program is carried in the Catalog of Federal Domestic Assistance (CFDA) as 89.003, National Historical Publications and Records Grants.

The final common rule for the enforcement of Title IX was published in the Federal Register by 21 Federal agencies, including NARA, on August 30, 2000 (65 FR 52857-52895). NARA's portion of the final rule will be codified at 36 CFR Part 1211. Subpart F of the Title IX common rule requires each Federal agency that awards Federal financial assistance to publish a notice of the federal financial assistance covered by the Title IX regulations within 60 days after the effective date of the final rule. This notice fulfills that requirement for NARA. Failure to list a type of federal assistance in this notice does not mean, if Title IX is otherwise applicable, that a program or activity is not covered by Title IX.

Recipients of federal financial assistance from NARA are subject to Title IX , but Title IX's anti-discrimination prohibitions are limited to the educational components of the recipient's program or activity, if any. The following types of NHPRC grants may involve educational activities that are covered under 36 CFR part 1211:

1. Educational Programs and Fellowships. NHPRC provides fellowships in Archival Administration (9-10 month training experience in archival management), fellowships in Advanced Historical Documentary Editing, and the Institute for the editing of Historical Documents.

2. Records Grants. These grants ensure that records documenting the American Experience are saved and made available for public use.

3. Electronic Records Grants. These grants seek ways to ensure that records created today will be useable on tomorrow's technology.

4. State Boards Grants. These grants provide support for advisory bodies for historical records planning and for many projects carried out within the states to strengthen the Nation's archival infrasturcture.

5. Publication Grants. These grants provide support for the publication of documentary editions that explore the lives and actions of important figures and/or to bring to light major themes of U.S. history.

Dated: November 20, 2000.
John W. Carlin,
Archivist of the United States.

[FR Doc. 00-30178 Filed 11-27-00; 8:45 am]

BILLING CODE 7515-01-U